DEPARTMENT OF DEFENSE

Department of the Army; Corps of Engineers

Availability of Final Supplemental Environmental Impact Statement for Atlantic Coast of Maryland Shoreline Protection Project—General Reevaluation Study: Borrow Sources for 2010-2044, Ocean City, MD

AGENCY: Department of the Army, U.S. Army Corps of Engineers, DOD.

ACTION: Notice of availability.

SUMMARY: In accordance with the requirements of the National Environmental Policy Act (NEPA), the Baltimore District, U.S. Army Corps of Engineers (USACE), has prepared a Final Supplemental Environmental Impact Statement (SEIS) for the Atlantic Coast of Maryland Shoreline Protection Project (Atlantic Coast Project). The SEIS evaluated new borrow sources to provide sand for routine periodic beach nourishment of Ocean City, MD, for the years 2010-2044. Existing borrow sources in state waters are anticipated to be exhausted after about 2010.

Between 6,800,000 and 15,000,000 cubic yards of sand would be needed through 2044, depending on future storm frequency and intensity. Three offshore shoals in Federal waters are proposed as sand sources: Weaver, Isle of Wight, and “A.” Sand may also be dredged from Shoal “B,” also known as Bass Grounds or First Lump, in the future, but only if its value as a fishing ground declines substantially. Guidelines to minimize long-term impacts to the offshore shoals were formulated in coordination with resource agency personnel and academic experts. Dredging would be conducted in accordance with these guidelines. Specific dredging plans would be developed in coordination with resource agencies prior to each beach nourishment cycle.

FOR FURTHER INFORMATION CONTACT: Mr. Christopher Spaur by mail at U.S. Army Corps of Engineers, Baltimore District, Attn: Mr. Christopher Spaur, CENAB-PL-P, P.O. Box 1715, Baltimore, MD 21203-1715; or electronically at christopher.c.spaur@usace.army.mil, or by telephone at (410) 962-6134 or (800) 295-1610.

SUPPLEMENTARY INFORMATION: The Atlantic Coast Project is designed to provide coastal flood and erosion protection to Ocean City, MD against a 100-year storm on the Atlantic Ocean. The Atlantic Coast of Maryland and Assateague Island Virginia Feasibility Report and Final Environmental Impact Statement for the project was finalized in August 1980. Subsequent environmental documents were prepared for the project in 1989 (Atlantic Coast of Maryland Hurricane Protection Project Final General Design Memorandum, Book 1 Main Report and Environmental Assessment) and 1993 (Environmental Assessment for the Use of Borrow Area No. 9 as Part of the Periodic Renourishment and Maintenance of the Atlantic Coast of Maryland Shoreline Protection Project). The project was completed in 1994. Periodic nourishment and maintenance of the beach are required to maintain the design level of protection. Since 1998, a period of few severe storms, approximately 800,000 cubic yards of sand have been placed on Ocean City beach every four years.

This Final SEIS documents findings of investigations conducted to select new borrow sources for the Atlantic Coast Project through the remainder of the project's 50 year economic life. Studies to develop the borrow plan were conducted by USACE in partnership with the Maryland Department of Natural Resources (DNR), Minerals Management Service (MMS), Ocean City, and Worcester County. DNR is the cost-sharing non-Federal sponsor of the study with USACE; MMS is a cooperating agency. A Notice of Intent (NOI) to prepare a General Reevaluation Report and Supplemental Environmental Impact Statement was published in the Federal Register on October 21, 2003 (68 FR 60095). Coordination with resource agency personnel, academic experts, and fishermen was undertaken during plan formulation. The USEPA listed the draft SEIS among its weekly receipts in the Federal Register on July 6, 2007 (72 FR 37006). An NOA was published in the Federal Register on July 10, 2007 (72 FR 37518) by the Department of the Army announcing release of the draft SEIS for public and agency review. The comment period closed August 28, 2007. A public meeting for the draft SEIS was held in Ocean City on July 25th, 2007. Written and oral comments were received from resource agencies and the public. Principal among the agency comments concerned potential impacts on Assateague Island. Revisions were made to the draft SEIS to provide additional information to address these comments, as well as provide updates and correct minor information omissions. A summary of these revisions is provided in the final SEIS.

Offshore shoals are the most appropriate sand sources for the project since these contain large quantities of suitable sand that can be cost-effectively obtained. Offshore shoal borrow sources in Federal waters that could provide up to 15,000,000 cubic yards of sand through 2044 were sought and identified. Three offshore shoals were selected and proposed as sand sources based on engineering, environmental, and economic screening criteria: Weaver, Isle of Wight, and “A.” Sand at Shoal “B,” also known as Bass Grounds or First Lump is engineeringly and economically suitable, however that shoal is currently an important fishing ground. Accordingly, Shoal “B” would not be utilized unless future reevaluation finds that its relative value as a fishing ground has declined substantially. Sub-areas on each shoal were delineated based on suitability of sand for beach nourishment purposes.

Dredging guidelines to minimize long-term impacts to the offshore shoals were formulated. No more than about 5% of the total volume of any shoal would be dredged. Dredging on any given shoal would avoid the crest, be conducted uniformly over a wide area, go no deeper than ambient seafloor depths, and preferentially dredge on the up and downdrift ends of the shoal if suitable sand is present there.

This Final SEIS documents the National Environmental Policy Act (NEPA) compliance for the proposed new offshore shoal borrow sources and supplements previous environmental documents. Printed and electronic copies of the Final SEIS can be obtained from Christopher Spaur. You may view the Final SEIS and related information on the worldwide web at: http://www.nab.usace.army.mil/PN/CivilWorks.htm.

The Final SEIS has been prepared in accordance with (1) The National Environmental Policy Act (NEPA) of 1969, as amended (42 U.S.C. 4321 et seq.), (2) regulations of the Council on Environmental Quality for implementing the procedural provisions of NEPA (40 CFR parts 1500-1508), and (3) USACE regulations for implementing NEPA (ER-200-2-2).

Christopher C. Spaur,
Ecologist.

[FR Doc. E8-20720 Filed 9-5-08; 8:45 am]

BILLING CODE 3710-41-P